NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Monday, May 14, 2007, at 8 a.m. and Tuesday May 15, 2007 at 8:30 a.m.

Place: National Science Foundation, 4201 Wilson Blvd., Room 1235, Arlington, VA 22230. All visitors must report to the NSF visitor desk at the 9th and N. Stuart Streets entrance to receive a visitor's badge.

Status: Some portions open, some portions closed.

Open Sessions

May 14, 2007

8 a.m.-9 a.m.

9 a.m.-12:30 p.m.

1:30 p.m.-2:30 p.m.

2:30 p.m.-3:30 p.m.

4 p.m.-4:15 p.m.

May 15, 2007

8:30 a.m.-9:30 a.m.

9:30 a.m.-10:15 a.m.

10:30 a.m.-12 noon

2 p.m.-3 p.m.

Closed Sessions

May 14, 2007

3:30 a.m.-4 p.m.

May 15, 2007

10:15 a.m.-10:30 a.m.

1:30 p.m.-1:45 p.m.

1:45 p.m.-2 p.m.

Agency Contact: Dr. Robert E. Webber, rwebber@nsf.gov, (703) 292-7000, http://www.nsf.gov/nsb/.

Matters To Be Discussed:

Monday May 14, 2007

CPP Subcommittee on Polar Issues

Open Session (8 a.m.—9 a.m.)

• Approval of March Minutes.

• SOPI Chairman's Remarks.

• OPP Director's Report.

• Measuring Ice Sheet Mass.

• A Circum-Arctic Observing Network.

• IceCube: Construction and Transition to Operations.

EHR Subcommittee on Science and Engineering Indicators

Open Session (9 a.m.—12:30 p.m.)

• Approval of March minutes.

• Subcommittee Chairman's Remarks.

• Review of Higher Education chapter: Chapter 2.

• Review of S&E Labor Force chapter: Chapter 3.

• Review of R&D: Funds and Technology Linkages chapter: Chapter 4.

• Review of Academic R&D chapter: Chapter 5.

• Review of Industry, Technology, and the Global Marketplace chapter: Chapter 6.

• Review of S&T: Public Attitudes and Understanding chapter: Chapter 7.

• Discussion of S&E Indicators 2010 Companion Piece Topics.

• Discussion of Key Findings and organization of Condensed Version (Digest) of Indicators.

• Chairman's summary.

CPP Task Force on International Science

Open Session (1:30 p.m.—2:30 p.m.)

• Approval of Minutes.

• Comments by the Task Force Chairman.

• Presentation on international accountability activities.

• Presentation on NSF Office of International Science and Engineering (OISE), activities.

Committee on Audit and Oversight

Open Session (2:30 p.m.—3:30 p.m.)

• Approval of Minutes of March 30, 2007 Meeting.

• Committee Chairman's Opening Remarks.

• OIG Semiannual Report.

• Management Response to OIG Semiannual Report.

• FY2007 Financial Statement Audit Status.

• Chief Financial Officer's Update.

• Chairman's Closing Remarks.

Closed Session (3:30 p.m.—4 p.m.)

• Pending Investigations.

Executive Committee

Open Session (4 p.m.—4:15 p.m.)

• Approval of Minutes for November 2006.

• Executive Committee Chairman's Remarks.

• Annual Report of the Executive Committee.

• Updates or New Business from Committee Members.

Tuesday, May 15, 2007

Committee on Programs and Plans

8:30 a.m.—9:30 a.m.

• Approval of March 29, 2007 CPP Minutes.

• Committee Chairman's Remarks.

• Status Reports:

○ Task Force on Transformative Research.

○ Task Force on International Science.

○ Subcommittee on Polar Issues.

• ad hoc Task Group on Sustainable Energy.

• Continuing Discussion: Request for Information on Recompetition, Operations and Management Costs for NSF Contracts, Cooperative Agreements and Grants.

Committee on Strategy and Budget

Open Session (9:30 a.m.—10:15 a.m.)

• Approval of March 29, 2007 CSB Minutes.

• Committee Chairman's Remarks.

• Discussion of CSB ad hoc Task Group on Cost-Sharing.

• Status of NSF Budget Request and Congressional Testimony.

• NSF Long Range Plan Overview.

Closed Session (10:15 a.m.—10:30 a.m.)

• Preliminary Discussion of FY 2009 Budget.

Committee on Education and Human Resources

Open Session (10:30 a.m.—12 p.m.)

• Approval of March 2007 Minutes.

• Committee Chairman's Remarks.

• Presentation on Report, Beyond Bias and Barriers.

• Discussion of the Board's Draft Action Plan for STEM Education.

• Subcommittee on Science and Engineering Indicators.

• NSF's Role in Supporting the Next Generation of High Ability Students.

• Executive Officer's Report.

Plenary Executive Closed

• Approval of March 2007 Minutes.

• Election of Executive Committee Members.

Plenary Closed

• Approval of March 2007 Minutes.

• Closed Committee Reports.

Plenary Open

• Approval of March 2007 Minutes.

• Resolution to Close August 2007 Meeting.

• Chairman's Report.

○ Calendar Year 2008 Board Meeting Dates.

• Director's Report.

○ NSF Congressional Update.

• Open Committee Reports.

Michael P. Crosby,
Executive Officer and Board Office Director.

[FR Doc. E7-8721 Filed 5-4-07; 8:45 am]

BILLING CODE 7555-01-P